DEPARTMENT OF TRANSPORTATION

Federal Transit Administration

Notice of Intent To Prepare an Environmental Impact Statement for the Buffalo-Amherst-Tonawanda Corridor Transit Expansion, Erie County, New York

AGENCY: Federal Transit Administration, Department of Transportation (DOT).

ACTION: Notice of intent to prepare an Environmental Impact Statement.

SUMMARY: The Federal Transit Administration, as lead Federal agency, and the Niagara Frontier Transit Metro System, Inc. (Metro), as local project sponsor and joint lead agency intend to prepare an Environmental Impact Statement (EIS) to evaluate potential benefits and impacts of the NFTA proposed Buffalo-Amherst-Tonawanda Corridor Transit Expansion project (the Proposed Project). The Proposed Project to be evaluated in the EIS would expand high quality transit service in Buffalo, New York to Tonawanda and Amherst, New York. FTA, in coordination with Metro will prepare the EIS in accordance with the National Environmental Policy Act (NEPA), the Fixing America's Surface Transportation Act (FAST Act), and the New York State Environmental Quality Review Act, Article 8 of the Environmental Conservation Law and its implementing regulations (SEQR). This Notice of Intent (NOI) initiates public scoping for the EIS, and provides information on the Proposed Project, the Project's purpose and need and the alternatives being considered for evaluation in the EIS. This NOI invites public comments on environmental impacts that may be associated with the Proposed Project and alternatives. Interested members of the public, tribes, and agencies are invited to submit comments on the proposed scope of the EIS, Metro's purpose and need, the identification of alternatives to be considered, the environmental benefits and impacts to be evaluated, and any other project-related issues or analysis. In consideration of the Federal Government's COVID-19 Emergency Declaration dated March 13, 2020, FTA has determined that virtual public meetings and hearings are a permissible and useful tool to provide for public involvement in the NEPA process.

DATES: The 45-day public scoping period will begin on the date of publication of this Notice and continue through October 14, 2021. Written comments may be submitted in hard copy via mail, electronically via email, and through the project website to the addresses listed in ADDRESSES below. Although the public can send comments through the mail, due to the COVID-19 national emergency, we recommend using the other communication methods to provide any scoping comments.

Metro will conduct one scoping meeting for this project to provide an opportunity for public comment. A livestreamed virtual public scoping meeting will be held on September 15, 2021, 6:30 p.m. to 8:00 p.m. Registration information and instructions for participating in the livestream virtual scoping meeting are available at http://www.nftametrotransitexpansion.com along with the scoping information report. Individuals who require special assistance, such as translation, captioning, or signing services, to participate in the scoping meetings should make the request by calling (716) 855-7382 or emailing planing@nfta.com by September 7, 2021.

To ensure consideration during the development of the EIS, written comments on the scope of the EIS must be submitted by 4:00 p.m. on October 14, 2021.

ADDRESSES: Please send written comments to: Expansion Project, c/o Service Planning, Niagara Frontier Transportation Authority, 181 Ellicott Street, Buffalo, NY 14203, by email to planning@nfta.com or through the project website: http://www.nftametrotransitexpansion.com. Information about the Proposed Project, scoping, and the EIS will be available on the project's website.

FOR FURTHER INFORMATION CONTACT: Donald Burns, FTA Director of Planning and Program Development, Email: Donald.Burns@dot.gov; Telephone: (212) 668-2203.

SUPPLEMENTARY INFORMATION: Proposed Project. Metro is proposing to expand high quality transit in the Buffalo-Amherst-Tonawanda Corridor. The build alternatives being considered include a light rail transit (LRT) extension and a bus rapid transit (BRT) system. Both alternatives would essentially follow the same alignment and would be primarily at-grade. Ten stations, two with park & ride facilities and an overnight storage and light maintenance facility are proposed for both alternatives. Metro intends to seek financial support for the project from the United States Department of Transportation, including FTA funding. The Project is included in the Greater Buffalo and Niagara Regional Transportation Council's (GBNRTC) 2050 long-range plan as regionally significant.

Purpose of and Need for the Proposed Project. The Proposed Project's primary purpose is to provide a fast, reliable, safe, and convenient transit ride and link established and emerging activity centers along the existing Metro Rail line in Buffalo with existing and emerging activity centers in Amherst and Tonawanda. The Project would serve existing Metro riders, attract new transit patrons, improve regional connections between Buffalo, Amherst, and Tonawanda, and support redevelopment and other economic development opportunities. Additionally, the Proposed Project would improve livability by increasing mobility and accessibility in communities throughout the region. The need for enhanced, equitable and sustainable transit service has three main components: (1) To serve existing and future travel demand generated by recent, pending, and future regional development; (2) to provide high-quality regional transit service; and (3) to better serve transit-dependent population segments.

Scoping. The NEPA scoping process has specific objectives, one of which is to identify the build alternatives' significant issues that will be examined in detail in the EIS. Previously, consistent with NEPA and in accordance with FTA guidance, in 2017, Metro conducted an Amherst-Buffalo Alternatives Analysis (AA) to identify a Locally Preferred Alternative (LPA), a light rail extension in 2017. Subsequently, Metro, as lead agency, completed an environmental review process on the LPA in accordance with the SEQR in 2020. A scoping process designed to meet NEPA requirements was conducted in 2018 and a SEQR Draft EIS (SEQR DEIS) was released in January 2020. Metro conducted two public hearings in February 2020 to provide an opportunity for the public and local agencies to provide comments and input to the SEQR DEIS. The findings of the SEQR DEIS, the written and oral comments received during the SEQR public hearings and comments received during the SEQR DEIS 60-day public comment period will inform the development of the NEPA DEIS and be considered by FTA during the NEPA scoping process. For this phase of the Proposed Project, the NEPA Scoping Information Packet released with the NOI can be found on the project website.

Screening of Potential Alternatives. As described in the previous section, potential alternatives were developed and evaluated through a local planning process including the GBNRTC's metropolitan long-range transportation plan, the AA, and previously published SEQR DEIS. The AA involved a three-tiered screening and evaluation methodology that started with 36 alignment and mode alternatives. The modes considered were LRT, BRT, preferential bus and enhanced bus. The LPA was adopted by Metro's Board of Commissioners and the GBNRTC based on the technical analysis results and feedback from stakeholders and the public. The LPA and further refined during the development of the SEQR DEIS.

The NEPA documentation will consider the alternatives and evaluations conducted to date, and the public outreach efforts conducted under SEQR, including a scoping period/meeting and a 60-day comment period for the SEQR DEIS. During the comment period for the SEQR DEIS, FTA requested lead agency participation in a NEPA environmental review, and that Metro consider a BRT system along the Buffalo-Amherst-Tonawanda Corridor as a reasonable alternative.

The results of the alternatives planning and SEQR DEIS, as well as other background information, are summarized in the Buffalo-Amherst-Tonawanda Corridor Transit Expansion Scoping Information Report, which is available at NFTA's office located at 181 Ellicott Street, Buffalo, NY 14203 and on the project website: http://www.nftametrotransitexpansion.com.

Proposed Alternatives. Two build alternatives, an LRT extension and a BRT system have been identified for the Proposed Project, as well as a no-build alternative, as required under NEPA. The no-build alternative serves as a baseline against which to assess the impacts of the proposed build alternatives. Proposed LRT build alternative is an approximately 7-mile extension of Metro's existing light rail transit (Metro Rail) and was developed incorporating public and stakeholder comments from Metro's planning process and SEQR DEIS scoping process. The LRT extension would be primarily at-grade, except for a 0.8-mile underground segment from the existing Metro Rail University Station to Niagara Falls Boulevard and at the intersection of Maple Road and Sweet Home Road. Ten stations are proposed, two with park & ride facilities, and an overnight storage and light maintenance facility located near the end of the line. The trackway would be configured with two tracks—one for northbound service and one for southbound service. The project would generally be within existing roadway right-of-way. The proposed BRT build alternative would provide transit service north from the existing Metro Rail University Station for approximately 7 miles along the same at-grade alignment as the LRT build alternative with the same number of stations in the same locations, however, a transfer would be required between the existing Metro Rail operations at University Station to the BRT service. A new BRT vehicle storage and maintenance facility would also be required. More details of the proposed build alternatives can be found in the Scoping Information Report and on the project's website.

EIS Process and Role of Participating Agencies and the Public. FTA and Metro are proposing a Study Area for the EIS to include an area approximately ¼ mile from the proposed transit expansion alignment and ½ mile around proposed stations. This is the area where potential primary direct or indirect impacts may be experienced.

Consistent with NEPA, FTA and Metro will evaluate, with input from the public, and other Federal, State, and local agencies, the potential for impacts of the proposed alternatives on the natural, built, and social environments from both construction and operation. The EIS will evaluate the potential for impacts in at least the following areas: Land use, zoning and public policy, community facilities, open space, socioeconomic conditions, environmental justice, air quality (including consideration of greenhouse gas emissions and climate change), historic properties and cultural resources, visual resources, transportation, noise and vibration, natural resources, water quality, utilities, energy, contaminated materials, construction and safety and security. Measures to avoid, minimize and mitigate any significant adverse impacts will be identified.

An Agency Coordination Plan (Plan) will be developed within 90 days of this NOI's publication date to guide a comprehensive public outreach program, and once available, it will be published on the project's website and the Federal Permitting Dashboard at http://www.permits.performance.gov/. The Plan will outline outreach to local and county officials and community and civic groups; a public scoping process to define the issues of concern among all parties interested in the Proposed Project; establishment of a Technical Advisory Committee and periodic meetings with that committee; a public hearing on the release of the NEPA Draft EIS; and relevant updates to the project website. Cooperating and Participating agencies may include the United States Environmental Protection Agency, the Advisory Council on Historic Preservation, the United States Department of the Interior, the United States Fishing and Wildlife Services, the Federal Highway Administration, and the New York State Department of Transportation along with other agencies.

FTA invites comments on the Metro's statement of purpose and need for the Proposed Project, as well as the alternatives proposed for consideration. Suggestions for modifications to the statement of purpose and need, and any other reasonable alternatives that meet the purpose and need for the project, are welcome and will be given serious consideration. Comments on significant environmental impacts that may be associated with the Proposed Project and alternatives are also welcome, as are the identification of information and analyses relevant to the proposed Project.

FTA Procedures. Public comments will be received through those methods explained earlier in this Notice and will be incorporated into the final NEPA Scoping Information Packet. This document will detail the scope of the EIS and the potential environmental effects that will be considered during the NEPA process. After the completion of the Draft EIS, a public and agency review period, including a public hearing, will allow for input on the Draft EIS. These public comments, as well as any public comments received during the scoping process, along with responses to them, will be incorporated into the Draft EIS for the Proposed Project.

Anticipated Permits and Approvals. The NEPA Scoping process and agency coordination will identify any permits and approvals required from Federal, State, and local agencies. Federal agency consultations required by the Clean Air Act, the Endangered Species Act, and the National Historic Preservation Act will be undertaken.

Anticipated Schedule for Decision-Making Process. FTA and Metro anticipate the following environmental review schedule, which is subject to change:

• Scoping Process: September-October 2021.

• Official Notice of Availability of the Draft EIS published in the Federal Register: Summer 2022.

• Public Hearings on the Draft EIS: Fall 2022.

• Federal Register Notice of Availability of a Final EIS/Record of Decision (ROD): Winter 2023.

Combined Final EIS and ROD. In accordance with 23 U.S.C. 139, FTA may consider combining the Final EIS and ROD. If FTA combines the Final EIS and ROD, it is anticipated that those documents will serve as the basis for Federal and State environmental findings and determinations needed to conclude the environmental review process, unless statutory criteria preclude issuance of a combined document (i.e., the Final EIS makes substantial changes to the proposed action that are relevant to environmental or safety concerns or there is a significant new circumstance or information relevant to environmental concerns that affect the proposed action or its impacts).

Michael L. Culotta,
Deputy Regional Administrator, Federal Transit Administration—Region II.

[FR Doc. 2021-18657 Filed 8-27-21; 8:45 am]

BILLING CODE 4910-57-P